NUCLEAR REGULATORY COMMISSION

[Docket Nos. 72-1031, 50-369, and 50-370; NRC-2020-0044]

Duke Energy Carolinas LLC; McGuire Nuclear Station Units 1 and 2; Independent Spent Fuel Storage Installation

AGENCY: Nuclear Regulatory Commission.

ACTION: Environmental assessment and finding of no significant impact; issuance.

SUMMARY: The U.S. Nuclear Regulatory Commission (NRC) is considering an exemption request from Duke Energy Carolinas, LLC (Duke Energy) which would permit Duke Energy to maintain MAGNASTOR® Cask 0FCTKN045 at its McGuire Nuclear Station independent spent fuel storage installation (ISFSI) in a storage condition where the helium density is above the range specified in Certificate of Compliance No. 1031, Amendment No. 7, Technical Specification 3.1.1. The NRC prepared an environmental assessment (EA) documenting its finding that the proposed action would have no significant environmental impact. Accordingly, the NRC staff is issuing a finding of no significant impact (FONSI) associated with the proposed exemption.

DATES: The EA and FONSI referenced in this document are available on July 14, 2020.

ADDRESSES: Please refer to Docket ID NRC-2020-0044 when contacting the NRC about the availability of information regarding this document. You may obtain publicly-available information related to this document using any of the following methods:

Federal Rulemaking Website: Go to https://www.regulations.gov and search for Docket ID NRC-2020-0044. Address questions about NRC docket IDs in Regulations.gov to Jennifer Borges Roman; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

FOR FURTHER INFORMATION CONTACT: Yen-Ju Chen, Office of Nuclear Material Safety and Safeguards, U.S. Nuclear Regulatory Commission, Washington, DC 20555; telephone: 301-415-1018; email: Yen-Ju.Chen@nrc.gov.

SUPPLEMENTARY INFORMATION:

I. Introduction

The NRC is reviewing an exemption request from Duke Energy, dated September 12, 2019 (ADAMS Accession No. ML19270E395), and supplemented by a letter dated February 3, 2020 (ADAMS Accession No. ML20052D934), and June 15, 2020 (ADAMS Accession No. ML20178A548). Duke Energy is requesting an exemption from the requirements of title 10 of the Code of Federal Regulations (10 CFR) in § 72.212(b)(3), (b)(5)(i), and (b)(11) that require Duke Energy and its MAGNASTOR® Cask 0FCTKN045 to comply with the terms, conditions, and specifications of the Certificate of Compliance (CoC) No. 1031, Amendment No. 7 (ADAMS Accession No. ML17013A481). If approved, Duke Energy's exemption request would accordingly allow Duke Energy to maintain MAGNASTOR® Cask 0FCTKN045 in a storage condition where the helium density is above the range specified in CoC No. 1031, Amendment No. 7, Technical Specification (TS) 3.1.1.

II. Environmental Assessment Summary

Under the requirements of §§ 51.21 and 51.30(a), the NRC staff developed an EA (ADAMS Accession No. ML20192A329) to evaluate the proposed action, which is for the NRC to grant Duke Energy an exemption from the requirements of § 72.212(b)(3), (b)(5)(i), and (b)(11), only as these requirements pertain to MAGNASTOR® Cask 0FCTKN045. The exemption would allow Duke Energy to maintain its MAGNASTOR® Cask 0FCTKN045 at McGuire Nuclear Station ISFSI in its current storage condition. The exemption would therefore not require Duke Energy to restore its MAGNASTOR® Cask 0FCTKN045 to full compliance with the helium density range specified in TS 3.1.1.

The EA defines the NRC's proposed action (i.e., to grant Duke Energy's exemption request per 10 CFR 72.7) and the purpose and need for the proposed action. Evaluations of the potential environmental impacts of the proposed action and alternatives to the proposed action are presented, followed by the NRC's conclusion.

The EA evaluates the potential environmental impacts of granting the exemption. The potential environmental impact of using NRC-approved storage casks was initially analyzed in the EA for the rulemaking to provide for the storage of spent fuel under a general license on July 18, 1990 (55 FR 29181). The EA for using the MAGNASTOR® System, Amendment No. 7 (81 FR 13265) tiers off of the EA for the 1990 final rule.

The NRC staff finds that the higher helium density would not adversely affect thermal performance and the structural integrity of the cask system is maintained, and thus, there would be no release from the canister. Therefore, the proposed action does not change the types or quantities of effluents that may be released offsite, it does not increase occupational or public radiation exposure, and there will be no significant radiological impact to the environment. The proposed action will take place within the site boundary and does not have other environmental impacts. Accordingly, the environmental impacts are bounded by the previous NRC EA for the rulemaking to add the MAGNASTOR® System, Amendment No. 7, to 10 CFR 72.214. Thus, the proposed action will not have a significant effect on the quality of the human environment.

III. Finding of No Significant Impact

The NRC staff has prepared an EA and associated FONSI in support of the proposed action. The NRC staff has concluded that the proposed action will not significantly impact the quality of the human environment, and that the proposed action is the preferred alternative.

The NRC provided the North Carolina Department of Health and Human Services with a draft copy of the EA for a 30-day review on June 18, 2020 (ADAMS Accession No. ML20171A452) and received its response on June 23, 2020 (ADAMS Accession No. ML20177A379). The NRC also informed the North Carolina State Historic Preservation Office (SHPO) of its no effects determination on January 7, 2020 (ADAMS Accession No. ML20008D559) and received the SHPO's concurrence on January 14, 2020 (ADAMS Package Accession No. ML20015A314).

The NRC staff has determined that this exemption would have no impact on ecological resources, and therefore no consultations are necessary under Section 7 of the Endangered Species Act of 1973 (16 U.S.C.A. 1536).

Therefore, the NRC finds that there are no significant environmental impacts from the proposed action, and that preparation of an environmental impact statement is not warranted. Accordingly, the NRC has determined that a FONSI is appropriate.

Dated: July 16, 2020.
For the Nuclear Regulatory Commission.
John B. McKirgan,
Chief, Storage and Transportation Branch, Division of Fuel Management, Office of Nuclear Material Safety and Safeguards.

[FR Doc. 2020-15768 Filed 7-21-20; 8:45 am]

BILLING CODE 7590-01-P